DEPARTMENT OF JUSTICE

28 CFR Part 25

[AG Order No. 2403-2001; FBI 105F]

RIN 1110-AA02

National Instant Criminal Background Check System Regulation; Delay of Effective Date

AGENCY: Federal Bureau of Investigation, Department of Justice.

ACTION: Final rule; delay of effective date.

SUMMARY: In accordance with the memorandum of January 20, 2001, from the Assistant to the President and Chief of Staff, entitled “Regulatory Review Plan,” published in the Federal Register on January 24, 2001 (66 FR 7702), this action temporarily delays for 60 days the effective date of the final rule entitled “National Instant Criminal Background Check System Regulation” published in the Federal Register on January 22, 2001, at 66 FR 6470. The temporary 60-day delay in effective date is necessary to give Department of Justice officials the opportunity for further review and consideration of new regulations, consistent with the Assistant to the President's memorandum of January 20, 2001.

DATES: The effective date of the final rule amending 28 CFR Part 25 published in the Federal Register on Janaury 22, 2001, at 66 FR 6470, is delayed for 60 days, from March 5, 2001, until May 4, 2001.

FOR FURTHER INFORMATION CONTACT: Fanny Haslebacher, Attorney-Advisor, Federal Bureau of Investigation, Module A-3, 1000 Custer Hollow Road, Clarksburg, West Virginia 26306-0147, (304) 625-2000.

SUPPLEMENTARY INFORMATION: To the extent that 5 U.S.C. section 553 applies to this action, it is exempt from notice and comment because it constitutes a rule of procedure under 5 U.S.C. section 553(b)(A). Alternatively, the Department of Justice's implementation of this action without opportunity for public comment, effective immediately upon publication today in the Federal Register, is based on the good cause exceptions in 5 U.S.C. section 553(b)(B) and 553(d)(3). Seeking public comment is impracticable, unnecessary, and contrary to the public interest. The temporary 60-day delay in effective date is necessary to give Department of Justice officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this action effective immediately upon publication.

Dated: February 23, 2001.
John Ashcroft,
Attorney General.

[FR Doc. 01-4979 Filed 2-28-01; 8:45 am]

BILLING CODE 4410-06-M